DEPARTMENT OF LABOR

Mine Safety and Health Administration

30 CFR Parts 56 and 57

[Docket No. MSHA-2019-0007]

RIN 1219-AB88

Electronic Detonators; Correction

AGENCY: Mine Safety and Health Administration, Labor.

ACTION: Direct final rule; correction.

SUMMARY: The Mine Safety and Health Administration (MSHA) is correcting a footnote in the preamble of a direct final rule that appeared in the Federal Register on January 14, 2020 and that became effective on March 16, 2020. The direct final rule revised certain safety standards for explosives at metal and nonmetal mines.

DATES: Effective May 20, 2020.

ADDRESSES:

Federal Register Publications: Access rulemaking documents electronically at https://www.msha.gov/regulations/rulemaking or http://www.regulations.gov [Docket Number: MSHA-2019-0007].

Email Notification: To subscribe to receive email notification when MSHA publishes rulemaking documents in the Federal Register, go to https://www.msha.gov/subscriptions.

FOR FURTHER INFORMATION CONTACT: Roslyn B. Fontaine, Acting Director, Office of Standards, Regulations, and Variances, MSHA, at fontaine.roslyn@dol.gov (email), 202-693-9440 (voice), or 202-693-9441 (fax). These are not toll-free numbers.

SUPPLEMENTARY INFORMATION: In FR Doc. 2019-28446 appearing on page 2022 in the Federal Register of Tuesday, January 14, 2020, the following correction is made: On page 2023, in the third column, under II. Background, A. General Discussion, footnote 1 is corrected to read:

“MSHA considers detonators fired by a shock tube and incorporating a pre-programmed microchip delay rather than a pyrotechnic one to be non-electric detonators, not electronic detonators.”

David G. Zatezalo,
Assistant Secretary of Labor for Mine Safety and Health Administration.

[FR Doc. 2020-08859 Filed 5-19-20; 8:45 am]

BILLING CODE 4520-43-P